ENVIRONMENTAL PROTECTION AGENCY

[ER-FRL-9047-6]

Environmental Impact Statements; Notice of Availability

Responsible Agency: Office of Federal Activities, General Information 202-564-5632 or https://www.epa.gov/nepa/.

Weekly receipt of Environmental Impact Statements

Filed 10/14/2019 10 a.m. ET Through 10/21/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190255, Draft Supplement, NRC, VA, Generic Environmental Impact Statement for License Renewal of Nuclear Plants—Supplement 6, Second Renewal Regarding Subsequent License Renewal for Surry Power Station Units 1 and 2, Comment Period Ends: 12/10/2019, Contact: Tam Tran 301-415-3617

EIS No. 20190256, Draft Supplement, NASA, CA, Draft Supplemental Environmental Impact Statement for Soil Cleanup Activities at Santa Susana Field Laboratory, Comment Period Ends: 12/09/2019, Contact: Peter Zorba msfc-ssfl-information@mail.nasa.gov

EIS No. 20190257, Final, RUS, WI, Cardinal-Hickory Creek 345-kV Transmission Line Project, Review Period Ends: 11/25/2019, Contact: Dennis Rankin 202-720-1953

EIS No. 20190258, Draft Supplement, NASA, FL, Supplemental Environmental Impact Statement for the Mars 2020 Mission, Comment Period Ends: 12/10/2019, Contact: George Tahu 202-358-0016

EIS No. 20190259, Final, BR, CA, Mendota Pool Group 20-Year Exchange Program, Review Period Ends: 11/25/2019, Contact: Rain Emerson 559-262-0335

EIS No. 20190260, Draft, BR, USACE, CA, Port of Long Beach Deep Draft Navigation Feasibility Study, Comment Period Ends: 12/09/2019, Contact: Larry Smith 213-452-3846

Amended Notice

EIS No. 20190254, Draft, USFS, AK, Rulemaking for Alaska Roadless Areas, Comment Period Ends:12/17/2019, Contact: Ken Tu 202-403-8991

Revision to FR Notice Published 10/18/2019; Correction to Comment Period Due Date from December 18, 2019 to December 17, 2019.

Dated: October 21, 2019.
Robert Tomiak,
Director, Office of Federal Activities.

[FR Doc. 2019-23313 Filed 10-24-19; 8:45 am]

BILLING CODE 6560-50-P